DEPARTMENT OF TRANSPORTATION

Federal Highway Administration

Environmental Impact Statement; Olmsted County, MN

AGENCY: Federal Highway Administration (FHWA), DOT.

ACTION: Notice of intent.

SUMMARY: The FHWA is issuing this notice to advise the public that an environmental impact statement (EIS) will be prepared for the proposed reconstruction of Trunk Highway (TH) 14 and bridge replacement over the Dakota, Minnesota & Eastern (DM&E) Railroad line, from the end of the four-lane roadway on the east side of Rochester through Eyota, approximately 8 miles, in Olmsted County, Minnesota.

FOR FURTHER INFORMATION CONTACT: Cheryl Martin, Federal Highway Administration, Galtier Plaza, 380 Jackson Street, Suite 500, St. Paul, Minnesota 55101, Telephone (651) 291-6120; or Craig Lenz, Project Manager, Minnesota Department of Transportation—District 6, 2900 48th Street NW., Rochester, Minnesota 55901, Telephone (507) 285-7353; (651) 296-9930 TTY.

SUPPLEMENTARY INFORMATION: The FHWA, in cooperation with the Minnesota Department of Transportation (Mn/DOT), will prepare an EIS on a proposal to reconstruct TH 14, including replacement of the bridge over the DM&E Railroad line, from the end of the four-lane roadway on the east side of the City of Rochester through the City of Eyota, approximately 8 miles, in Olmsted County, Minnesota. The project proposes to replace a seventy-three year old railroad bridge and improve the geometry of the bridge approaches and the roadway segment in order to address identified safety, operational, structural, and geometric deficiencies.

TH 14 is a major east-west highway in southern Minnesota and plays a major role in the movement of people and goods. This roadway serves a variety of travel demands including mobility to serve commuter, commercial, and recreational traffic and access to homes, farms, and commercial retail businesses. The purpose of the project is to address present and future safety, operations, structural and geometric deficiencies along this segment of TH 14. Identified problems include high crash rates; lack of passing zones; several accesses to the roadway; geometric deficiencies in the roadway design including sharp curves, narrow shoulders and minimal vertical and horizontal clearance under the bridge; and a decrease to unacceptable levels of service in the future if no improvements are made.

The EIS will evaluate the social, economic, transportation and environmental impacts of alternatives, including: No-Build and Build Alternatives. Each of the three proposed Build Alternatives will include both a four-lane suburban and a four-lane rural roadway design and all of the Build Alternatives assume a roadway overpass of the DM&E Railroad. The Build alternatives include: Alternative 1: Existing Alignment—Central Bridge Location (over the railroad), Alternative 2: North Alignment—West Bridge Location (over the railroad), and Alternative 3: South Alignment—East Bridge Location (over the railroad). The “Trunk Highway 14 Scoping Document/Draft Scoping Decision Document” will be published in October 2002. A press release will be published to inform the public of the document's availability. Copies of the scoping document will be distributed to agencies, interested persons and libraries for review to aid in identifying issues and analyses to be contained in the EIS. A thirty-day comment period for review of the document will be provided to afford an opportunity for all interested persons, agencies and groups to comment on the proposed action. Interagency and public scoping meetings will also be held during the comment period. The Interagency and public scoping and information meetings have been scheduled for Wednesday, December 4, 2002 from 2 to 3:30 p.m. at the Eyota City Hall, 38 West South Front Street, and 4:30 to 7 p.m. to the Dover-Eyota High School, 615 South Avenue, respectively. Public notice will be given for these meetings.

A Draft EIS will be prepared based on the outcome of the scoping process. The Draft EIS will be available for agency and public review and comment. In addition, a public hearing will be held following completion of the Draft EIS. Public Notice will be given for the time and place of the public hearing on the Draft EIS.

Coordination has been initiated and will continue with appropriate Federal, State and local agencies and private organizations and citizens who have previously expressed or are known to have an interest in the proposed action. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: September 27, 2002.
Stanley M. Graczyk,
Project Development Engineer, Federal Highway Administration, St. Paul, Minnesota.

[FR Doc. 02-25345 Filed 10-4-02; 8:45 am]

BILLING CODE 34910-22-M